NATIONAL SCIENCE FOUNDATION

Toward a Federal Cybersecurity Research Agenda: Three Game-changing Themes

AGENCY: The National Coordination Office (NCO) for Networking and Information Technology Research and Development (NITRD).

ACTION: Notice.

FOR FURTHER INFORMATION CONTACT: Tomas Vagoun at Vagoun@nitrd.gov or (703) 292-4873. Individuals who use a telecommunications device for the deaf (TDD) may call the Federal Information Relay Service (FIRS) at 1-800-877-8339 between 8 a.m. and 8 p.m., Eastern time, Monday through Friday.

DATES: May 19, 2010.

SUMMARY: Representatives from Federal research agencies will present themes to exemplify and motivate future Federal cybersecurity research activities.

SUPPLEMENTARY INFORMATION: Overview: This notice is issued by the National Coordination Office for the Networking and Information Technology Research and Development (NITRD) Program. In concert with the White House Office of Science and Technology Policy, agencies of the NITRD Program have identified three initial research and development (R&D) themes to exemplify and motivate future Federal game-change cybersecurity research activities: (a) Tailored Trustworthy Spaces, (b) Moving Target, (c) Cyber Economic Incentives. On Wednesday May 19, 2010, from 1:30 p.m.-5:00 p.m. PDT, representatives from the National Science Foundation, the Department of Homeland Security, and other agencies, will present the three themes at the Claremont Hotel, 41 Tunnel Road, Berkeley, CA 94705. This event will be webcast. For the event agenda and information about the webcast, go to: http://www.nitrd.gov/CSThemes.aspx. This event will be the first discussion of these Federal cybersecurity game-change R&D objectives and will provide insights into the priorities that are shaping the direction of Federal research activities. Following this event, an on-line forum will be opened at http://cybersecurity.nitrd.gov/ to provide an opportunity for comments and feedback.

Background: With the increased attention to cybersecurity, the President's Cyberspace Policy Review challenges the Federal community to develop a framework for R&D strategies that focus on game-changing technologies that can significantly enhance the trustworthiness of cyberspace (by “cyberspace” we mean the globally interconnected network of information technology infrastructures, including the Internet, telecommunications networks, computer systems, and embedded processors in critical industries). Achieving enduring trustworthiness of the cyberspace requires new paradigms that re-balance security asymmetries of today's landscape: the cost of simultaneously satisfying all the requirements of an ideal cybersecurity solution in a static system is impossibly high, and so we must enable sub-spaces in cyberspace to support different security policies and different security services for different types of interactions; the cost of attack is asymmetric, favoring the attacker, and so defenders must increase the cost of attack and must employ methods that enable them to continue to operate in the face of attack; the lack of meaningful metrics and economically sound decision making in security misallocates resources, and so we must promote economic principles that encourage the broad use of good cybersecurity practices and deter illicit activities. The research agenda will be built by initially focusing on the three themes and on enabling component technologies supportive of, or required by these themes. The Federal research community welcomes feedback to refine these themes so that they can form the basis of an enhanced research agenda. In the pursuit of these three initial themes, we expect new themes, possibly complementary and possibly overlapping, will emerge, enriching our understanding of how to design and build a more trustworthy cyberspace.

Submitted by the National Science Foundation for the National Coordination Office (NCO) for Networking and Information Technology Research and Development (NITRD).

Dated: May 10, 2010.
Suzanne H. Plimpton,
Reports Clearance Officer, National Science Foundation.

[FR Doc. 2010-11444 Filed 5-12-10; 8:45 am]

BILLING CODE 7555-01-P